COMMITTEE FOR PURCHASE FROM PEOPLE WHO ARE BLIND OR SEVERELY DISABLED

Procurement List; Proposed Additions And Deletions

AGENCY: Committee for Purchase from People Who Are Blind or Severely Disabled.

ACTION: Proposed Addition to and Deletions from Procurement List.

SUMMARY: The Committee is proposing to add to the Procurement List a service to be furnished by nonprofit agencies employing persons who are blind or have other severe disabilities, and to delete services previously furnished by such agencies.

Comments Must be Received on or Before: October 29, 2006.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C. 47(a) (2) and 41 CFR 51-2.3. Its purpose is to provide interested persons an opportunity to submit comments on the proposed actions.

Addition

If the Committee approves the proposed addition, the entities of the Federal Government identified in this notice for the service will be required to procure the service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for addition to the Procurement List.

Comments on this certification are invited. Commenters should identify the statement(s) underlying the certification on which they are providing additional information.

End of Certification

The following service is proposed for addition to Procurement List for production by the nonprofit agency listed:

Service Type/Location: Full Food Service. FBI & Drug Enforcement Administration Training Academies, Quantico, Virginia.

NPA: ServiceSource, Inc., Alexandria, Virginia.

Contracting Activity: Federal Bureau of Investigation, Department of Justice, Washington, DC.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Janitorial/Custodial Maritime Building (Only), Port Road, Riviera Beach, Florida.

NPA: Elwyn, Inc., Aston, PA.

Contracting Activity: General Services Administration.

Service Type/Location: Janitorial/Grounds and Related Services, Motor Pool Office and Garage (Only), 450 N. Grande, Tucson, Arizona.

NPA: Beacon Group SW, Inc., Tucson, Arizona.

Contracting Activity: GSA, PBS—9PMFC, San Francisco, California.

Service Type/Location: Janitorial/Custodial, Federal Records Center and USDA Laboratory, 1557 St. Joseph Avenue, East Point, Georgia.

NPA: WORKTEC, Jonesboro, Georgia.

Contracting Activity: GSA, PBS.

Service Type/Location: Repair of Small Hand Tools, Robins Air Force Base, Robins AFB, Georgia.

NPA: Epilepsy Association of Georgia, Warner Robins, Georgia.

Contracting Activity: Department of the Air Force.

Service Type/Location: Custodial Services, Denver Federal Center, Buildings 41, 44, and 48, Denver, CO.

NPA: Aspen Diversified Industries, Inc., Colorado Springs, CO.

Contracting Activity: GSA, PBS Region 8, Denver, CO.

Sheryl D. Kennerly,
Director, Information Management.

[FR Doc. E6-16081 Filed 9-28-06; 8:45 am]

BILLING CODE 6353-01-P